DEPARTMENT OF THE INTERIOR

Minerals Management Service

30 CFR Parts 250 and 254

RIN 1010-AC57

Oil and Gas and Sulphur Operations in the Outer Continental Shelf—Incident Reporting Requirements

AGENCY: Minerals Management Service (MMS), Interior.

ACTION: Extension of comment period for proposed rule.

SUMMARY: This document extends to December 5, 2003, the previous deadline of October 6, 2003, for submitting comments on the proposed rule published on July 8, 2003, (68 FR 40585), that describes MMS Incident Reporting Requirements.

DATES: We will consider all comments received by December 5, 2003, and we may not fully consider comments received after December 5, 2003.

ADDRESSES: Mail or hand-carry written comments (three copies) to the Department of the Interior; Minerals Management Service; 381 Elden Street; Mail Stop 4024; Herndon, Virginia 20170-4817; Attention: Rules Processing Team.

FOR FURTHER INFORMATION CONTACT: Melinda Mayes, MMS Engineering and Operations Division, Herndon, VA, at (703) 787-1063 or Staci Atkins, MMS Engineering and Operations Division, Herndon, VA, at (703) 787-1620.

SUPPLEMENTARY INFORMATION: The MMS published a proposed rulemaking on July 8, 2003 (68 FR 40585) to revise the requirements for lessees/operators to report incidents associated with Outer Continental Shelf activities. In developing this Notice of Proposed Rulemaking, MMS worked with the U.S. Coast Guard (USCG) with the goal of making the reporting requirements between the two agencies consistent. The MMS and USCG also are developing an electronic reporting system to help eliminate duplicative reporting between the two agencies.

In a letter to MMS dated July 14, 2003, the International Association of Drilling Contractors has requested that we extend the comment period. The IADC stated that the additional time was necessary to develop their response and coordinate it with their sister trade associations, particularly in view of the time that must also be devoted to the recent Maritime Security rules issued by the USCG.

On September 3, 2003, MMS and the USCG will hold a meeting to explain the proposed rule and allow meeting participants to ask questions. The original proposed rule comment due date is just over one month after this meeting. We believe that additional time to develop comments after the meeting should be provided. Therefore, we are extending the comment period for 60 days and this notice extends the comment period to December 5, 2003.

Public Comments Procedures

Our practice is to make comments, including names and home addresses of respondents, available for public review during regular business hours. Individual respondents may request that we withhold their home address from the rulemaking record, which we will honor to the extent allowable by law. There may be circumstances in which we would withhold from the rulemaking record a respondent's identity, as allowable by law. If you wish us to withhold your name and/or address, you must state this prominently at the beginning of your comment. However, we will not consider anonymous comments. We will make all submissions from organizations or businesses, and from individuals identifying themselves as representatives or officials of organizations or businesses, available for public inspection in their entirety.

Dated: July 25, 2003.
E.P. Danenberger,
Chief, Engineering and Operations Division.

[FR Doc. 03-19459 Filed 7-30-03; 8:45 am]

BILLING CODE 4310-MR-P